DEPARTMENT OF COMMERCE

Foreign-Trade Zones Board

[S-70-2024]

Approval of Subzone Status; Sediver USA, Inc.; West Memphis, Arkansas

On April 17, 2024, the Executive Secretary of the Foreign-Trade Zones (FTZ) Board docketed an application submitted by the City of West Memphis, Arkansas Public Facilities Board, grantee of FTZ 273, requesting subzone status subject to the existing activation limit of FTZ 273, on behalf of Sediver USA, Inc., in West Memphis, Arkansas.

The application was processed in accordance with the FTZ Act and Regulations, including notice in the Federal Register inviting public comment (89 FR 35058, May 1, 2024). The FTZ staff examiner reviewed the application and determined that it meets the criteria for approval.

Pursuant to the authority delegated to the FTZ Board Executive Secretary (15 CFR 400.36(f)), the application to establish Subzone 273B was approved on June 13, 2024, subject to the FTZ Act and the Board's regulations, including section 400.13, and further subject to FTZ 273's 2,000-acre activation limit.

Dated: June 13, 2024.
Elizabeth Whiteman,
Executive Secretary.

[FR Doc. 2024-13374 Filed 6-17-24; 8:45 am]

BILLING CODE 3510-DS-P